DEPARTMENT OF COMMERCE

International Trade Administration

[A-357-812]

Honey From Argentina: Extension of Time Limit for Preliminary Results of Antidumping Duty New Shipper Review

AGENCY: Import Administration, International Trade Administration, Department of Commerce.

DATES: Effective Date: July 25, 2011.

FOR FURTHER INFORMATION CONTACT: Patrick Edwards or Angelica Mendoza, AD/CVD Operations, Office 7, Import Administration, International Trade Administration, U.S. Department of Commerce, 14th Street and Constitution Avenue, NW., Washington, DC 20230, telephone: (202) 482-8029 or (202) 482-3019, respectively.

SUPPLEMENTARY INFORMATION:

Background

On January 31, 2011, the Department of Commerce (the Department) published in the Federal Register the initiation a new shipper review of the antidumping duty order on honey from Argentina, covering the period of December 1, 2009, through November 30, 2010, and a single exporter of Argentine honey, Villamora S.A. (Villamora). See Honey from Argentina: Notice of Initiation of Antidumping Duty New Shipper Review, 76 FR 5332 (January 31, 2011). The current deadline for the preliminary results of this review is July 24, 2011.

Extension of Time Limits for Preliminary Results of Review

Section 751(a)(2)(B)(iv) of the Tariff Act of 1930, as amended (the Act), and 19 CFR 351.214(i)(1), requires the Department to complete the preliminary results of a new shipper review of an antidumping duty order within 180 days after the date on which the review is initiated. However, the Department may extend the deadline for completion of the preliminary results to 300 days if it determines the case is extraordinarily complicated. See section 751(a)(2)(B)(iv) of the Act, and 19 CFR 351.214(i)(2).

The Department finds that this new shipper review is extraordinarily complicated and, therefore, it requires additional time to complete the preliminary results. Specifically, the Department requires additional time to analyze certain data and information regarding the Argentine honey market and the nature of Villamora's relationship with affiliated parties. Accordingly, the Department is extending the time limit for completion of the preliminary results of this new shipper review and therefore, will complete these preliminary results no later than August 23, 2011. We intend to issue the final results no later than 90 days after publication of the preliminary results.

This extension is issued and published in accordance with section 751(a)(2)(B)(iv) and 19 CFR 351.214(i)(2).

Dated: July 18, 2011.
Christian Marsh,
Deputy Assistant Secretary for Antidumping and Countervailing Duty Operations.

[FR Doc. 2011-18716 Filed 7-22-11; 8:45 am]

BILLING CODE 3510-DS-P